DEPARTMENT OF THE INTERIOR

Bureau of Land Management

[LLNVS01000.L58530000.EQ0000.241A; N-95369; 12-08807; MO# 45001213053; TAS:15X5232]

Notice of Realty Action: Classification for Lease and/or Conveyance for Recreation and Public Purposes of Public Lands for an Elementary School in the Southwest Portion of the Las Vegas Valley, Clark County, Nevada

AGENCY: Bureau of Land Management, Interior.

ACTION: Notice of realty action.

SUMMARY: The Bureau of Land Management (BLM), Las Vegas Field Office, has examined and found suitable for classification for lease and subsequent conveyance under the provisions of the Taylor Grazing Act and the Recreation and Public Purposes Act, (R&PP) as amended, approximately 15 acres of public land in the Las Vegas Valley, Clark County, Nevada. The Clark County School District proposes to use the land for an Elementary School that will help meet future expanding educational needs in the southwestern part of the Las Vegas Valley.

DATES: Submit written comments regarding this proposed classification on or before November 26, 2018. In the absence of any adverse comments, the classification will become effective on December 10, 2018. The lands will not be offered for conveyance until after the classification becomes effective.

ADDRESSES: Mail or hand deliver written comments to the BLM Las Vegas Field Office, Attn: S. (Quien) May, Realty Specialist, 4701 North Torrey Pines Drive, Las Vegas, Nevada 89130; or fax to 702-515-5010. The BLM will not consider comments received by telephone calls or email. Detailed information, including but not limited to a proposed development and management plan and documentation relating to compliance with applicable environmental and cultural resource laws, is available for review during business hours, 8:00 a.m. to 4:30 p.m. Pacific Time, Monday through Friday, except Federal holidays, at the BLM Las Vegas Field Office.

FOR FURTHER INFORMATION CONTACT: S. (Quien) May, Realty Specialist at the above address or by telephone at 702-515-5196. Persons who use a telecommunications device for the deaf may call the Federal Relay Service (FRS) at 1-800-877-8339 to leave a message or question for the above individual. The FRS is available 24 hours a day, 7 days a week. You will receive a reply during normal business hours.

SUPPLEMENTARY INFORMATION: The lands examined and identified as suitable for lease or conveyance under the R&PP Act are legally described as: Mount Diablo Meridian, Nevada, T. 22 S., R. 61 E., sec. 20, NE¼SW¼SW¼ and E½NW¼SW¼SW¼. The area described contains 15 acres in Clark County, Nevada. The lands are not needed for any Federal purposes at this time.

Lease or conveyance of the lands for recreational or public purposes use is consistent with the BLM's Las Vegas Resource Management Plan dated October 5, 1998, and would be in the public interest.

All interested parties will receive a copy of this Notice once it is published in the Federal Register. A copy of the Federal Register Notice with information about this proposed realty action will be published in a newspaper of local circulation once a week for three consecutive weeks. The regulations at 43 CFR subpart 2741 addressing requirements and procedures for conveyances under the R&PP Act do not require a public meeting.

Upon publication of this Notice in the Federal Register, the lands will be segregated from all other forms of appropriation under the public land laws, including locations under the mining laws, except for lease or conveyance under the R&PP Act and leasing under the mineral leasing laws.

The lease or conveyance of the land, when issued, will be subject to the following terms, conditions, and reservations:

1. A right-of-way thereon for ditches and canals constructed by the authority of the United States Act of August 30, 1890 (26 Stat. 391; 43 U.S.C. 945).

2. Provisions of the R&PP Act and to all applicable regulations of the Secretary of the Interior.

3. All mineral deposits in the land so patented, and the right to prospect for, mine, and remove such deposits from the same under applicable law and regulations as established by the Secretary of the Interior are reserved to the United States, together with all necessary access and exit rights.

4. Lease or conveyance of the parcel is subject to valid existing rights.

5. An appropriate indemnification clause protecting the United States from claims arising out of the lessee's/patentee's use, occupancy, or occupations on the leased/patented lands.

6. Any other reservations that the authorized officer determines appropriate to ensure public access and proper management of Federal lands and interests therein.

Subject to limitations prescribed by law and regulation, prior to patent issuance, the holder of any right-of-way grant within the lease area may be given the opportunity to amend the right-of-way grant for conversion to a new term, including perpetuity, if applicable.

Classification Comments: Interested persons may submit comments involving the suitability of the land for development of an elementary school. Comments on the classification are restricted to whether the land is physically suited for the proposal, whether the use will maximize the future use or uses of the land, whether the use is consistent with local planning and zoning, or if the use is consistent with state and Federal programs.

Application Comments: Interested persons may submit comments regarding the specific use proposed in the application and plan of development and management, whether the BLM followed proper administrative procedures in reaching the decision, or any other factor not directly related to the suitability of the lands for an elementary school.

Any adverse comments will be reviewed by the BLM State Director or other authorized official of the Department of the Interior, who may sustain, vacate, or modify this realty action. In the absence of any adverse comments, the classification will become effective on December 10, 2018. The lands will not be offered for conveyance until after the classification becomes effective.

Before including your address, phone number, email address, or other personal identifying information in any comment, be aware that your entire comment including your personal identifying information may be made publicly available at any time. While you can ask the BLM in your comment to withhold your personal identifying information from public review, we cannot guarantee that we will be able to do so.

Authority: 43 CFR 2741.5.

Gayle Marrs-Smith,
Field Manager, Las Vegas Field Office.

[FR Doc. 2018-22026 Filed 10-9-18; 8:45 am]

BILLING CODE 4310-HC-P